DEPARTMENT OF JUSTICE

Antitrust Division

Notice Pursuant to the National Cooperative Research and Production Act of 1993—Silicon Integration Initiative, Inc.

Notice is hereby given that, on September 7, 2017, pursuant to Section 6(a) of the National Cooperative Research and Production Act of 1993, 15 U.S.C. 4301 et seq. (“the Act”), Silicon Integration Initiative, Inc. (“Si2”) has filed written notifications simultaneously with the Attorney General and the Federal Trade Commission disclosing changes in its membership. The notifications were filed for the purpose of extending the Act's provisions limiting the recovery of antitrust plaintiffs to actual damages under specified circumstances. Specifically, Analog Rails, Chandler, AZ; Avatar Integrated Systems, Inc., Santa Clara, CA; D.E. Shaw Research, New York, NY; DXCorr Design, Inc., Sunnyvale, CA; Intento Design, Paris, FRANCE; Invecas, Inc., Santa Clara, CA; Juspertor GmbH, Unterhaching, GERMANY; NVMEngines, Morgan Hill, CA; Sage Design Automation, Santa Clara, CA; Savarti Company Limited, Ho Chi Minh City, VIETNAM; Tower Semiconductor, Ltd., Migdal HaEmek, ISRAEL; and Google, Inc., Mountain View, CA, have been added as parties to this venture.

Also, Concept Engineering GmbH, Freiburg, GERMANY; Kenji Morohasi, Yokohama, JAPAN; Lumerical Solutions, Inc., Vancouver, CANADA; SA Magillem Design Services, Paris, FRANCE; Monozukuri S.p.A., Rome, ITALY; Robust Chip Inc., Pleasanton, CA; Silicon Frontline Technology, Campbell, CA; and Spectral Design & Test Inc., Somerville, NY, have withdrawn as parties to this venture.

No other changes have been made in either the membership or planned activity of the group research project. Membership in this group research project remains open, and Si2 intends to file additional written notifications disclosing all changes in membership.

On December 30, 1988, Si2 filed its original notification pursuant to Section 6(a) of the Act. The Department of Justice published a notice in the Federal Register pursuant to Section 6(b) of the Act on March 13, 1989 (54 FR 10456).

The last notification was filed with the Department on May 9, 2016. A notice was published in the Federal Register pursuant to Section 6(b) of the Act on June 9, 2016 (81 FR 37212).

Patricia A. Brink,
Director of Civil Enforcement, Antitrust Division.

[FR Doc. 2017-21746 Filed 10-6-17; 8:45 am]

BILLING CODE P